DEPARTMENT OF THE INTERIOR

Bureau of Reclamation

[N32-1852-7940-200-00-0-0, 2800000]

Draft Environmental Impact Statement/Environmental Impact Report for Yolo Bypass Salmonid Habitat Restoration and Fish Passage, California

AGENCY: Bureau of Reclamation, Interior.

ACTION: Notice to reopen public comment period for the scoping process.

SUMMARY: The Bureau of Reclamation is reopening the comment period for the scoping process. The public comment period will now end on May 6, 2013. We published the notice of intent in the Federal Register on March 4, 2013 (78 FR 14117). The public comment period originally ended on April 3, 2013.

DATES: Written comments submitted as part of the scoping process will be accepted on or before May 6, 2013.

ADDRESSES: Send written comments to Traci Michel, Project Manager, Bureau of Reclamation, Bay-Delta Office, 801 I Street, Suite 140, Sacramento, CA 95814-2536; fax to 916-414-2439; or email at tmichel@usbr.gov.

FOR FURTHER INFORMATION CONTACT: Traci Michel, 916-414-2420, fax 916-414-2439, or email tmichel@usbr.gov; or Megan Sheely, FESSRO, Fish Passage Improvement Program, California Department of Water Resources, 901 P Street, Room 411A, Sacramento, CA 95814, 916-651-9623, fax 916-376-9688, or email Megan.Sheely@water.ca.gov.

Public Disclosure

Before including your address, phone number, email address, or other personal identifying information in your comment, you should be aware that your entire comment—including your personal identifying information—may be made publicly available at any time. While you can ask us in your comment to withhold your personal identifying information from public review, we cannot guarantee that we will be able to do so.

Dated: March 29, 2013.
Russell W. Grimes,
Chief, Environmental Compliance and Conservation Branch, Mid-Pacific Region.

[FR Doc. 2013-09503 Filed 4-22-13; 8:45 am]

BILLING CODE 4310-MN-P